DEPARTMENT OF THE TREASURY

Internal Revenue Service

26 CFR Part 1

[TD 9232]

RIN 1545-BD33

Guidance on Passive Foreign Investment Company (PFIC) Purging Elections; Correction

AGENCY: Internal Revenue Service (IRS), Treasury.

ACTION: Correction to temporary regulation.

SUMMARY: This document contains a correction to temporary regulations that were published in the Federal Register on Thursday, December 8, 2005 (70 FR 72908) that provide certain elections for taxpayers that continue to be subject to the PFIC excess distribution regime of section 1291 even though the foreign corporation in which they own stock is no longer treated as a PFIC under section 1297(a) or (e).

FOR FURTHER INFORMATION CONTACT: Ethan Atticks, (202) 622-3840 (not a toll-free number).

SUPPLEMENTARY INFORMATION:

Background

The temporary regulation that is the subject of this correction is under sections 1291(d)(2), 1297(e) and 1298(b)(1) of the Internal Revenue Code.

Need for Correction

As published, the temporary regulation (TD 9232) contain an error that may prove to be misleading and is in need of clarification.

Correction of Publication

Accordingly, the publication of the temporary regulation (TD 9232), which were the subject of FR Doc. 05-23630, is corrected as follows:

On page 72909, column 1, in the preamble under the caption heading DATES, lines 4 and 5, the language “applicability, see §§ 1.1297-3T(f),1.1298-3T(f) is corrected to read “applicability, see §§ 1.1291-9T(K), 1.1297-3T(f), and 1.1298-3T(f).”.

Cynthia E. Grigsby,
Acting Chief, Publications and Regulations Branch, Legal Processing Division, Associate Chief Counsel, (Procedure and Administration).

[FR Doc. 06-683 Filed 1-24-06; 8:45 am]

BILLING CODE 4830-01-P